ENVIRONMENTAL PROTECTION AGENCY

40 CFR Part 52

[EPA-R03-OAR-2016-0455; FRL-9956-42-Region 3]

Determination of Attainment of the 2012 Annual Fine Particulate Matter Standard; Pennsylvania; Delaware County Nonattainment Area

AGENCY: Environmental Protection Agency (EPA).

ACTION: Proposed rule.

SUMMARY: The Environmental Protection Agency (EPA) is proposing to determine that the Delaware County, Pennsylvania moderate nonattainment area (the Delaware County Area) has attained the 2012 annual fine particulate matter (PM2.5) national ambient air quality standard (NAAQS). This determination of attainment, also known as a clean data determination, is based upon quality assured, certified, and complete ambient air monitoring data showing that this area has monitored attainment of the 2012 annual PM2.5 NAAQS based on the 2013-2015 data available in EPA's Air Quality System (AQS) database. If this determination is finalized, the requirements for the Delaware County Area to submit an attainment demonstration, associated reasonably available control measures (RACM), a reasonable further progress (RFP) plan, contingency measures, and other planning state implementation plan (SIP) revisions related to attainment of the standard shall be suspended for so long as the area continues to meet the 2012 annual PM2.5 NAAQS. This action is being taken under the Clean Air Act (CAA).

In the Final Rules section of this Federal Register, EPA is making this determination of attainment as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. EPA will not institute a second comment period. Any parties interested in commenting on this action should do so at this time.

DATES: Comments must be received in writing by January 12, 2017.

ADDRESSES: Submit your comments, identified by Docket ID No. EPA-R03-OAR-2016-0455 at http://www.regulations.gov, or via email to pino.maria@epa.gov. For comments submitted at Regulations.gov, follow the online instructions for submitting comments. Once submitted, comments cannot be edited or removed from Regulations.gov. For either manner of submission, the EPA may publish any comment received to its public docket. Do not submit electronically any information you consider to be confidential business information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the For Further Information Contact section. For the full EPA public comment policy, information about CBI or multimedia submissions, and general guidance on making effective comments, please visit http://www2.epa.gov/dockets/commenting-epa-dockets.

FOR FURTHER INFORMATION CONTACT: Gavin Huang, (215) 814-2042, or by email at huang.gavin@epa.gov.

SUPPLEMENTARY INFORMATION: For further information about this determination of attainment of the 2012 annual PM2.5 NAAQS for the Delaware County Area, please see the information provided in the direct final action, with the same title, that is located in the “Rules and Regulations” section of this Federal Register publication.

Dated: November 22, 2016.
Shawn M. Garvin,
Regional Administrator, Region III.

[FR Doc. 2016-29747 Filed 12-12-16; 8:45 am]

BILLING CODE 6560-50-P